FEDERAL COMMUNICATIONS COMMISSION

47 CFR Part 20

[PS Docket No. 07-114; Report No. 3020]

Petition for Reconsideration of Action in a Rulemaking Proceeding

AGENCY: Federal Communications Commission.

ACTION: Petition for reconsideration.

SUMMARY: A Petition for Reconsideration (Petition) has been filed in the Commission's Rulemaking proceeding by Joseph P. Benkert, P.C., on behalf of the Boulder Regional Emergency Telephone Service Authority.

DATES: Oppositions to the Petition must be filed on or before May 11, 2015. Replies to an opposition must be filed on or before May 19, 2015.

ADDRESSES: Federal Communications Commission, 445 12th Street SW., Washington, DC 20554.

FOR FURTHER INFORMATION CONTACT: Dana Zelman, Public Safety and Homeland Security Bureau, 202-418-0546, Dana.Zelman@fcc.gov.

SUPPLEMENTARY INFORMATION: This is a summary of Commission's document, Report No. 3020, released April 21, 2015. The full text of Report No. 3020 is available for viewing and copying in Room CY-B402, 445 12th Street SW., Washington, DC. The Commission will not send a copy of this Notice pursuant to the Congressional Review Act, 5 U.S.C. 801(a)(1)(A), because this Notice does not have an impact on any rules of particular applicability.

Subject: In the Matter of Wireless E911 Location Accuracy Requirements, published at 80 FR 11805, March 4, 2015 in PS Docket No. 07-114, and published pursuant to 47 CFR 1.429(e) of the Commission's rules. See also 47 CFR 1.4(b)(1) of the Commission's rules.

Number Of Petitions Filed: 1

Federal Communications Commission.
Sheryl D. Todd,
Deputy Secretary.

[FR Doc. 2015-09594 Filed 4-23-15; 8:45 am]

BILLING CODE 6712-01-P